DEPARTMENT OF TRANSPORTATION

Maritime Administration

[Docket No. MARAD-2022-0036]

Request for Comments of a Previously Approved Information Collection: MARAD Exercise Breakout Survey

AGENCY: Maritime Administration (MARAD), DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on October 19, 2021.

DATES: Comments must be submitted on or before February 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Patrick Dannaher, (202) 366-5427, Division of Sealift Operations and Emergency Response (MAR-612), Maritime Administration, U.S. Department of Transportation, 1200 New Jersey Avenue SE, Washington, DC 20590.

SUPPLEMENTARY INFORMATION: Title: MARAD Exercise Breakout Survey.

OMB Control Number: 2133-0550.

Type of Request: Renewal of a Previously Approved Information Collection.

Abstract: This survey will be conducted on a voluntary basis and is intended to provide vital information to the Ready Reserve Force Program. This exercise is designed to test MARAD's internal administrative procedures, as well as the coordination necessary for a complete activation of MARAD's Ready Reserve Force (RRF) and the Military Sealift Command (MSC) Surge Sealift Fleet to meet strategic sealift requirements. Periodic testing is necessary in view of the dynamics that affect the RRF program, which include changes in RRF fleet composition, readiness status, ship location as well as changes to the seafaring manpower base. The mariner survey is an integral part of the Breakout Exercise. This survey will be used to measure mariner availability, training, and experience.

Respondents: Merchant Mariners.

Affected Public: Individuals and/or Households.

Estimated Number of Respondents: 150.

Total Estimated Number of Responses: 150.

Frequency of Collection: Annually.

Estimated Times per Respondent: Once.

Total Estimated Number of Annual Burden Hours: 7.5.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * * * *

By Order of the Acting Maritime Administrator.
T. Mitchell Hudson, Jr.,
Secretary, Maritime Administration.

[FR Doc. 2022-01512 Filed 1-25-22; 8:45 am]

BILLING CODE 4910-81-P